ENVIRONMENTAL PROTECTION AGENCY

[FRL-7071-2]

Agency Information Collection Activities: Submission for OMB Review; Comment Request; Underground Injection Control (UIC) Program (OMB Control No. 2040-0042; EPA No. 0370.18, Expiring September 30, 2001)

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Underground Injection Control (UIC) Program (OMB Control No. 2040-0042; EPA ICR No. 0370.18), expiring September 30, 2001. The ICR describes the nature of the information collection and its expected burden and cost; where appropriate, it includes the actual data collection instrument.

DATES: Comments must be submitted on or before November 1, 2001.

ADDRESSES: Send comments referencing EPA ICR No. 0370.18 and OMB Control Number 2040-0042, to the following addresses: Susan Auby, U.S. Environmental Protection Agency, Collection Strategies Divsion (Mail Code 2822), 1200 Pennsylvania Avenue, NW., Washington DC 20460-0001; and to Office of Information and Regulatory Affairs, Office of Management and Budget (OMB), Attention: Desk Officer for EPA, 725 17th Street, NW., Washington, DC 20503.

FOR FURTHER INFORMATION CONTACT: For a copy of the ICR contact auby.susan@epamail.gov, or download off the Internet at http://www.epa.gov/icr and refer to EPA ICR No. 0370.18. For technical questions about the ICR contact Robert E. Smith at 202-260-5559 in the Office of Water.

SUPPLEMENTARY INFORMATION: Title: Underground Injection Control Program (OMB Control No. 2040-0042; EPA ICR No. 0370.18.), expiring September 30, 2001. This is an extension of a previously approved collection.

Abstract: The Underground Injection Control (UIC) Program under the Safe Drinking Water Act established a Federal and State regulatory system to protect underground sources of drinking water (USDWs) from contamination by injected fluids. Owners/operators of underground injection wells must obtain permits, conduct environmental monitoring, maintain records, and report results to EPA or the State UIC primacy agency. States must report to EPA on permittee compliance and related information. The information is reported using standardized forms, and regulations are codified at 40 CFR parts 144 through 148. The data are used to ensure the protection of underground sources of drinking water from UIC authorities. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information, was published on May 3, 2001 (66 FR 22225). No comments were received by EPA on or before the close of the comment period.

Burden Statement: The annual public reporting and recordingkeeping burden for this collection of information is estimated to average 2.59 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are owners and operators of underground injection wells and UIC Primacy agencies in the States including, Puerto Rico, the U.S. Trust Territories, Indian Tribes, and Alaska's Native Villages and, in some instances, U.S. EPA Regional Offices.

Respondents/Affected Entities: 422,287.

Estimated Number of Respondents: 52,967.

Frequency of Response: Operators of Class I, III and some Class V wells must report monitoring results quarterly; Class II operators report annually.

Estimated Total Annual Burden: 1,091,945.

Estimated Total Annualized Cost Burden: $66,904,505.

Send comments on the Agency's need for this information, the accuracy of the provided burden estimates, and any suggested methods for minimizing respondent burden, including through the use of automatic collection techniques to the following addresses. Please refer to EPA ICR No. 0370.18 and OMB Control No. 2040-0042 in any correspondence.

Dated: September 25, 2001.
Oscar Morales,
Director, Collection Strategies Division.

[FR Doc. 01-24592 Filed 10-1-01; 8:45 am]

BILLING CODE 6560-50-M